GENERAL SERVICES ADMINISTRATION

48 CFR Part 552

[GSAR Case 2017-G506; Docket No. GSA-GSAR 2021-0016; Sequence No. 1]

RIN 3090-AJ90

General Services Administration Acquisition Regulation (GSAR); Clause and Provision Designation Corrections; Correction

AGENCY: Office of Acquisition Policy, General Services Administration (GSA).

ACTION: Final rule; correction.

SUMMARY: On October 6, 2021, GSA published a final rule to amend the General Services Administration Acquisition Regulation (GSAR) to correct clause and provision designation and prescription errors, correct deviations and alternate identification issues, and to make other updates to the GSAR related to identification and incorporation of GSAR provisions and clauses. This document corrects an erroneous amendatory instruction in that rule.

DATES: Effective November 5, 2021.

FOR FURTHER INFORMATION CONTACT: Mr. Thomas O'Linn, Procurement Analyst, at 202-445-0390 or gsarpolicy@gsa.gov, for clarification of content. For information pertaining to status or publication schedules, contact the Regulatory Secretariat Division at 202-501-4755 or GSARegSec@gsa.gov. Please cite GSAR Case 2017-G506.

SUPPLEMENTARY INFORMATION: GSA is correcting an amendatory instruction under part 552, section 552.232-72.

In FR Doc. 2021-20541 appearing on pages 55516-55525 in the issue of October 6, 2021, make the following correction:

552.232-72 [Corrected]

1. On page 55524, in the first column, Instruction 82 for 552.232-72 is corrected to read:

“82. Amend section 552.232-72 by removing from the introductory text “532.904(c)” and adding “532.908(a)” in its place.”

Jeffrey A. Koses,
Senior Procurement Executive, Office of Acquisition Policy, Office of Government-wide Policy, General Services Administration.

[FR Doc. 2021-22498 Filed 10-14-21; 8:45 am]

BILLING CODE 6820-61-P